FEDERAL COMMUNICATION COMMISSION

Sunshine Act Meeting; Open Commission Meeting; Tuesday, September 30, 2014

September 23, 2014.

The Federal Communications Commission will hold an Open Meeting on the subjects listed below on Tuesday, September 30, 2014. The meeting is scheduled to commence at 10:30 a.m. in Room TW-C305, at 445 12th Street SW., Washington, DC.

Item No. | Bureau | Subject
1 | MEDIA | TITLE: Sports Blackout Rules, Report and Order (MB Docket No. 12-3)
|  | SUMMARY: The Commission will consider a Report and Order that would eliminate the Commission's sports blackout rules, which can prevent consumers from watching their teams' games on local television.
2 | INTERNATIONAL | TITLE: Comprehensive Review of Licensing and Operating Rules for Satellite Services (IB Docket No. 12-267)
|  | SUMMARY: The Commission will consider a Further Notice of Proposed Rulemaking to streamline and update Part 25 of the Commission's rules, which governs licensing and operation of space stations and earth stations for the provision of satellite communication services. These proposals will streamline, clarify or eliminate numerous rule provisions and reduce regulatory burdens.
3 | OFFICE OF ENGINEERING AND TECHNOLOGY | TITLE: Expanding the Economic and Innovation Opportunities of Spectrum Through Incentive Auctions (GN Docket No. 12-268)
|  | SUMMARY: The Commission will consider a Declaratory Ruling that clarifies that the Commission intends to make all reasonable efforts to preserve both the “coverage area” and “population served” of eligible broadcast television stations in the repacking process associated with the Incentive Auction.
4 | OFFICE OF ENGINEERING AND TECHNOLOGY | TITLE: Amendment of Part 15 of the Commission's Rules for Unlicensed Operations in the Television Bands, Repurposed 600 MHz Band, 600 MHz Guard Bands and Duplex Gap, and Channel 37, and Amendment of Part 74 of the Commission's Rules for Low Power Auxiliary Stations in the Repurposed 600 MHz Band and 600 MHz Duplex Gap; Expanding the Economic and Innovation Opportunities of Spectrum Through Incentive Auctions (GN Docket No. 12-268)
|  | SUMMARY: The Commission will consider a Notice of Proposed Rulemaking to revise rules for unlicensed operations in the TV bands and new 600 MHz Band, including fixed and personal/portable white space devices and unlicensed microphones. The proposed changes and new rules are intended to allow more robust and spectrally efficient unlicensed operations without increasing the risk of harmful interference to other users.
5 | OFFICE OF ENGINEERING AND TECHNOLOGY | TITLE: Promoting Spectrum Access for Wireless Microphone Operations; Expanding the Economic and Innovation Opportunities of Spectrum Through Incentive Auctions (GN Docket No. 12-268)
|  | SUMMARY: The Commission will consider a Notice of Proposed Rulemaking to address the needs of wireless microphone users, while recognizing that they must share spectrum with other wireless uses in an increasingly crowded spectral environment.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary, Office of the Secretary, Office of Managing Director.

[FR Doc. 2014-23201 Filed 9-25-14; 11:15 am]

BILLING CODE 6712-07-P